FEDERAL COMMUNICATIONS COMMISSION

47 CFR Parts 0, 2 and 101

[ET Docket No. 95-183; RM-8553; PP Docket No. 93-253; FCC 04-78]

37.0-38.6 GHz and 38.6-40.0 GHz Bands—Competitive Bidding

AGENCY: Federal Communications Commission.

ACTION: Proposed rule; extension of comment period.

SUMMARY: In this document, the Federal Communications Commission is extending the comment and reply comment period for the Third Notice of Proposed Rulemaking (NPRM). The Commission finds that it is in the public interest to extend the time for the filing of comments and reply comments on the NPRM.

DATES: The time for filing comments on all issues raised in the NPRM, including Paperwork Reduction Act is extended to December 3, 2004, and the time for filing reply comments is extended January 3, 2005.

FOR FURTHER INFORMATION CONTACT: Charlie Oliver, 202-418-2487.

SUPPLEMENTARY INFORMATION: This is a summary of an Order released by the Commission, extending the time for filing comments and reply comments on the Third Notice of Proposed Rulemaking (NPRM), FCC 04-78, released on May 5, 2004. Comment due dates contained in the summary of the NPRM published in the Federal Register, 69 FR 52632, August 27, 2004, are inconsistent with comment due dates contained in the NPRM.

Federal Communications Commission.
Marlene H. Dortch,
Secretary.

[FR Doc. 04-22194 Filed 10-1-04; 8:45 am]

BILLING CODE 6712-01-P